COMMITTEE FOR PURCHASE FROM PEOPLE WHO ARE BLIND OR SEVERELY DISABLED

41 CFR 51-6

Military Resale (MR) Commodities; Correction

AGENCY: Committee for Purchase From People Who Are Blind or Severely Disabled.

ACTION: Correcting amendments.

SUMMARY: The Committee published a Final Rule in the Federal Register of June 5, 2015, adding MR numbers to a series of MR numbers that already exist. In the Final Rule, new MR series 11000 and 12000 were designated as “Exclusive”. This document removes MR series 11000 and 12000 from being designated as “Exclusive”. All other parameters of the Final Rule remain the same as published on June 5, 2015.

DATES: Effective June 23, 2015.

FOR FURTHER INFORMATION CONTACT: Barry S. Lineback, Telephone: (703) 603-2118.

SUPPLEMENTARY INFORMATION: This document corrects § 51-6.4 by removing MR series 11000 and 12000 from paragraphs (b), (c)(4), and (d) so the series are no longer designated as “Exclusive”. All other parameters of the Final Rule remain the same as published on June 5, 2015.

List of Subjects in 41 CFR Part 51-6 Procurement procedures.

For the reasons set out in the preamble, the Committee amends 41 CFR part 51-6 as follows:

PART 51-6—PROCUREMENT PROCEDURES

1. The authority citation for part 51-6 continues to read as follows:

Authority: 41 U.S.C. 8501-8506.

§ 51-6.4 [Amended]

2. In § 51-6.4, in paragraphs (b), (c)(4), and (d), remove “, 11000 (11000-11999); 12000 (12000-12999)”.

Dated: June 17, 2015.
Barry S. Lineback,
Director, Business Operations.

[FR Doc. 2015-15284 Filed 6-22-15; 8:45 am]

BILLING CODE 6353-01-P